DEPARTMENT OF DEFENSE

Department of the Army

Advisory Committee Meeting Notice

AGENCY: Department of the Army, DOD.

ACTION: Notice of meeting.

SUMMARY: In accordance with Section 10(a)(2) of the Federal Advisory Committee Act (Pub. L. 92-463), announcement is made of the following meeting:

Name of Committee: Army Education Advisory Committee.

Date: April 23, 2008.

Place: Crowne Plaza Williamsburg at Ft. Magruder, 6945 Pocahontas Trail, Williamsburg, VA 23185.

Time: 0830-1700.

Proposed Agenda: The meeting agenda includes a review of actions and recommendations from five subcommittees: Defense Language Institute Foreign Language Center, Command and General Staff College Board of Visitors, Army War College Board of Visitors, Distance Learning/Training Technology Applications Subcommittee, and the Reserve Officer Training Corps Subcommittee. Committee members will also be briefed on new Department of the Army initiatives: the College of the American Soldier and the Army Civilian University.

Purpose of the Meeting: To review recommendations submitted from the last meeting of each of the five subcommittees and forward approved recommendation to the Office of the Administrative Assistant, Secretary of the Army and the subcommittee decision maker. To provide for the continuous exchange of information and ideas for training and education between the U.S. Army Training and Doctrine Command (TRADOC), HQ Department of the Army, and the academic and business communities.

For Further Information Contact: All communications regarding this committee should be addressed to Mr. Carlton Hardy, at Commander, Headquarters TRADOC, ATTN: ATTG-VN (Mr. Hardy), Fort Monroe, VA 23651-5000; e-mail: carlton.hardy@us.army.mil.

Supplementary Information: Meeting of the advisory committee is open to the public. Because of limited meeting space, attendance will be limited to those persons who have notified the Advisory Committee Management Office in writing at least five days prior to the meeting of their intention to attend. Contact Mr. Hardy (carlton.hardy@us.army.mil) for meeting agenda and specific locations.

Any member of the public may file a written statement with the committee before, during, or after the meeting. To the extent that time permits, the committee chairman may allow public presentations or oral statements at the meeting.

Robert E. Seger,
Senior Executive Service, Assistant Deputy Chief of Staff, G-3/5/7.

[FR Doc. E8-7320 Filed 4-7-08; 8:45 am]

BILLING CODE 3710-08-P